DEPARTMENT OF TRANSPORTATION

Maritime Administration

46 CFR Part 350

[Docket No. MARAD-2026-0004]

RIN 2133-AC00

Seamen's Service Awards; Amendment Replacing Gulf of Mexico With Gulf of America

AGENCY: Maritime Administration (MARAD), Department of Transportation (DOT).

ACTION: Final rule.

SUMMARY: This final rule amends MARAD's regulations governing Seamen's Service Awards. The amendment changes the name “Gulf of Mexico” to “Gulf of America” consistent with Executive Order (E.O.) 14172, Restoring Names that Honor American Greatness. The amendment also provides factual clerical changes, such as updating citations to authority and physical office names and addresses.

DATES: This final rule is effective January 15, 2026.

FOR FURTHER INFORMATION CONTACT: David Hatcher, Office of Sealift Support, at (202) 366-0688 or David.Hatcher1@dot.gov. The mailing address for the Maritime Administration, Office of Sealift Support is 1200 New Jersey Avenue SE, Washington, DC 20590.

SUPPLEMENTARY INFORMATION:

Electronic Access and Filing

An electronic copy of this document may also be downloaded by accessing the Office of the Federal Register's home page at: www.federalregister.gov.

Background

This action conforms 46 CFR part 350 to Executive Order 14172 by changing “Gulf of Mexico” to “Gulf of America” in the name of a seaman's service award during World War II specified in the regulations.¹ The rule would also provide necessary clerical updates to DOT's regulations, such as updating citations to authority, physical office addresses, and office names.

¹ MARAD is unable to revise 46 CFR 350.47(d) to update the term “Gulf of Mexico” to “Gulf of America” because the term “Gulf of Mexico” within the regulation is statutorily mandated in the term “Gulf of Mexico Fisheries” (see 16 U.S.C. 1852 (b)(2)(D)(i)).

Regulatory Analyses and Notices

Administrative Procedure Act

MARAD issues this final rule without prior notice and the opportunity for public comment and the 30-day delayed effective date ordinarily prescribed by the Administrative Procedure Act (APA). Pursuant to 5 U.S.C. 553(b)(B), general notice and the opportunity for public comment are not required with respect to a rulemaking when an “agency for good cause finds (and incorporates the finding and a brief statement of reasons therefor in the rules issued) that notice and public procedure thereon are impracticable, unnecessary, or contrary to the public interest.” MARAD has determined that there is good cause to waive the opportunity for prior notice and comment, finding it unnecessary with respect to a geographic name change effectuated previously by Executive direction and for factual clerical changes such as updating citations to authority, physical office addresses, and office names. Neither of these updates imposes any regulatory requirements or costs on members of the public. MARAD waives the 30-day delay in effective date under 5 U.S.C. 553(d) for the same reasons.

Executive Orders 12866, 13563, 14192 and DOT Rulemaking Procedures

Executive Order (E.O.) 12866, as supplemented by E.O. 13563, provides for determining whether a regulatory action is “significant” and therefore subject to Office of Management and Budget (OMB) review and to the requirements of E.O. 12866.

Today's final rule is not significant and has not been reviewed by OMB under E.O. 12866. This rule is limited to conforming the agency's implementing regulation at 46 CFR part 350 to a geographic name change previously effectuated by Executive direction and making clerical updates to citations of authority, physical office addresses, office names. This rule does not result in any changes to costs or benefits.

Executive Order 14192, titled “Unleashing Prosperity through Deregulation,” directs that, unless prohibited by law, whenever an executive department or agency publicly proposes for notice and comment or otherwise promulgates a new regulation, it must identify at least two existing regulations to be repealed. In addition, any new incremental costs of all new regulations must be significantly less than zero. Only those rules deemed significant under section 3(f) of Executive Order 12866, “Regulatory Planning and Review,” are subject to these requirements. Per OMB Memo M-25-20, E.O. 14192 applies to a rulemaking action that is “a significant regulatory action as defined in Section 3(f) of E.O. 12866 that has been finalized and that imposes total costs greater than zero.” As discussed above, this rule provides clerical updates to the regulation and changes the name “Gulf of Mexico” to the “Gulf of America.” Accordingly, this action is neither a regulatory nor a deregulatory rule under Executive Order 14192.

Regulatory Flexibility Act

Pursuant to the Regulatory Flexibility Act (RFA), MARAD has considered the impacts of this rulemaking action on small entities (5 U.S.C. 601 et seq.). Rules that are exempt from notice and comment are also exempt from the RFA requirements, including conducting a regulatory flexibility analysis, when among other things the agency for good cause finds that notice and public procedure are impracticable, unnecessary, or contrary to the public interest. See 5 U.S.C. 603(a). Because, as discussed above, this rule is exempt from the APA notice and comment requirements, MARAD is not required to conduct a regulatory flexibility analysis.

Executive Order 13132, Federalism

MARAD has examined this final rule pursuant to E.O. 13132 (64 FR 43255, August 10, 1999) and concluded that no additional consultation with States, local governments, or their representatives is mandated beyond the rulemaking process. The Agency has concluded that the rulemaking would not have sufficient federalism implications to warrant consultation with State and local officials or the preparation of a federalism summary impact statement. The final rule will not have, pursuant to E.O. 13132 section 1(a): “substantial direct effects on the States, on the relationship between the national government and the States, or on the distribution of power and responsibilities among the various levels of government.”

The Unfunded Mandates Reform Act

The Unfunded Mandates Reform Act of 1995 (Pub. L. 104-4) requires agencies to prepare a written assessment of the costs, benefits, and other effects of proposed or final rules that include a Federal mandate likely to result in the expenditure by State, local, or tribal governments, in the aggregate, or by the private sector, of more than $100 million annually, adjusted annually for inflation. This action will not result in additional expenditures by State, local, or tribal governments or by any members of the private sector. Therefore, MARAD has not prepared an economic assessment pursuant to the Unfunded Mandates Reform Act.

Regulation Identifier Number (RIN)

A regulation identifier number (RIN) is assigned to each regulatory action listed in the Unified Agenda of Federal Regulations. The Regulatory Information Service Center publishes the Unified Agenda in the Spring and Fall of each year. The RIN number contained in the heading of this document can be used to cross-reference this action with the Unified Agenda.

Paperwork Reduction Act

Under the Paperwork Reduction Act of 1995, a person is not required to respond to a collection of information by a Federal agency unless the collection displays a valid OMB control number. This final rule includes no new collection of information and will not change any existing collections of information as it does not actually waive any regulatory requirements.

Privacy Act

Anyone can search the electronic form of all comments received into any of our dockets by the name of the individual submitting the comment (or signing the comment, if submitted on behalf of an association, business, labor union, etc.). For information on DOT's compliance with the Privacy Act, please visit https://www.transportation.gov/privacy.

List of Subjects in 46 CFR Part 350

Decoration, Seamen.

Accordingly, the Department of Transportation amends 46 CFR Part 350 as follows:

PART 350—SEAMEN'S SERVICE AWARDS

1. Revise the authority citation for part 350 to read as follows:

Authority: 46 U.S.C. chapter 519; 49 U.S.C. 322(a); 49 CFR 1.93.

2. Revise § 350.1 to read as follows:

§ 350.1 Purpose.

The purpose of this part is to prescribe regulations to implement 46 U.S.C. chapter 519 to authorize the issue of decorations, medals, and other recognition for service in the U.S. merchant marine, and for other purposes, and to provide for the replacement of awards previously issued for service in the U.S. merchant marine under prior law.

3. Amend § 350.2 by revising paragraph (c) to read as follows:

§ 350.2 Special medals and awards.

* * * * *

(c) Inquiries. Direct all inquiries concerning eligibility and procedures for the issuance of these medals to Maritime Administrator, Attention: Seamen's Service Awards, Maritime Administration, U.S. Department of Transportation, 1200 New Jersey Avenue SE, Washington, DC 20590.

4. Amend § 350.3 by revising paragraph (a)(7) to read as follows:

§ 350.3 Other original recognition of service.

* * * * *

(a) * * *

(7) Atlantic War Zone Bar and Medal, awarded to merchant seamen who served in the Atlantic War Zone, including the North Atlantic, South Atlantic, Gulf of America, Caribbean, Barents Sea, and the Greenland Sea, between December 7, 1941, and November 8, 1945.

* * * * *

5. Amend § 350.4 by:

a. Revising paragraph (c); and

b. Removing paragraphs (d) and (e).

The revision reads as follows:

§ 350.4 Eligibility for awards.

* * * * *

(c) Inquiries. The information establishing eligibility, along with a written request must be directed to Maritime Administrator, Attention: Seamen's Service Awards, Maritime Administration, U.S. Department of Transportation, 1200 New Jersey Avenue SE, Washington, DC 20590.

6. Revise § 350.5 to read as follows:

§ 350.5 Replacement decorations.

Decorations that have been previously issued may be replaced at cost upon written request made to Maritime Administrator, Attention: Seamen's Service Awards, Maritime Administration, U.S. Department of Transportation, 1200 New Jersey Avenue SE, Washington, DC 20590.

(Authority: 46 U.S.C. Chapter 519; 49 U.S.C. 322(a); 49 CFR 1.93)

By Order of the Maritime Administrator.
T. Mitchell Hudson, Jr.,
Secretary, Maritime Administration.

[FR Doc. 2026-00753 Filed 1-14-26; 8:45 am]

BILLING CODE 4910-81-P